DEPARTMENT OF ENERGY

Federal Energy Regulatory Commission

Combined Notice of Filings

Take notice that the Commission has received the following Natural Gas Pipeline Rate and Refund Report filings:

Filings Instituting Proceedings

Docket Numbers: RP12-387-000.

Applicants: Dominion Transmission, Inc.

Description: DTI—February 17, 2012 Form of Service Agreement Revision to be effective 3/19/2012.

Filed Date: 2/17/12.

Accession Number: 20120217-5100.

Comments Due: 5 p.m. ET 2/29/12.

Docket Numbers: RP12-388-000.

Applicants: Columbia Gas Transmission, LLC.

Description: TCO Prearranged Deal to be effective 3/21/2012.

Filed Date: 2/21/12.

Accession Number: 20120221-5129.

Comments Due: 5 p.m. ET 3/5/12.

Docket Numbers: RP12-389-000.

Applicants: Kinder Morgan Illinois Pipeline LLC.

Description: Penalty Revenue Crediting Report of Kinder Morgan Illinois Pipeline LLC.

Filed Date: 2/21/12.

Accession Number: 20120221-5177.

Comments Due: 5 p.m. ET 3/5/12.

Docket Numbers: RP12-390-000.

Applicants: Columbia Gas Transmission, LLC.

Description: TCO Operational Transaction Filing to be effective N/A.

Filed Date: 2/21/12.

Accession Number: 20120221-5214.

Comments Due: 5 p.m. ET 3/5/12.

Docket Numbers: RP12-391-000.

Applicants: Columbia Gulf Transmission Company.

Description: CGT Operational Transaction Filing to be effective N/A.

Filed Date: 2/21/12.

Accession Number: 20120221-5217.

Comments Due: 5 p.m. ET 3/5/12.

Docket Numbers: RP12-392-000.

Applicants: Hardy Storage Company, LLC.

Description: Hardy Operational Transaction Filing to be effective N/A.

Filed Date: 2/21/12.

Accession Number: 20120221-5218.

Comments Due: 5 p.m. ET 3/5/12.

Docket Numbers: RP12-393-000.

Applicants: Crossroads Pipeline Company.

Description: Operational Purchases and Sales to be effective N/A.

Filed Date: 2/21/12.

Accession Number: 20120221-5220.

Comments Due: 5 p.m. ET 3/5/12.

Docket Numbers: RP12-394-000.

Applicants: El Paso Natural Gas Company.

Description: Non-Conforming OPASA Filing to be effective 3/23/2012.

Filed Date: 2/21/12.

Accession Number: 20120221-5273.

Comments Due: 5 p.m. ET 3/5/12.

Docket Numbers: RP12-395-000.

Applicants: Ruby Pipeline, L.L.C.

Description: Non-Conforming Transportation Service Agreement to be effective 4/1/2012.

Filed Date: 2/22/12.

Accession Number: 20120222-5001.

Comments Due: 5 p.m. ET 3/5/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1435-009.

Applicants: Columbia Gulf Transmission Company.

Description: Columbia Gulf Rate Case Second Compliance Filing to be effective 2/1/2012.

Filed Date: 2/21/12.

Accession Number: 20120221-5130.

Comments Due: 5 p.m. ET 3/5/12.

Docket Numbers: RP11-1521-002.

Applicants: Discovery Gas Transmission LLC.

Description: NAESB V1.9—4th Compliance to be effective 11/1/2010.

Filed Date: 2/21/12.

Accession Number: 20120221-5132.

Comments Due: 5 p.m. ET 3/5/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 22, 2012.
Nathaniel J. Davis, Sr.,
Deputy Secretary.

[FR Doc. 2012-4795 Filed 2-28-12; 8:45 am]

BILLING CODE 6717-01-P